FEDERAL COMMUNICATIONS COMMISSION

Public Availability of the Federal Communications Commission's FY 2012 Service Contract Inventory

AGENCY: Federal Communications Commission.

ACTION: Notice.

SUMMARY: The Federal Communications Commission is publishing this notice to advise the public of the availability of the FY 2012 Service Contract Inventory as required by Section 743 of Division C of the Consolidated Appropriations Act of 2010 (Pub. L. 111-117). This inventory provides information on FY 2012 service contract actions over $25,000.

FOR FURTHER INFORMATION CONTACT: Questions regarding the service contract inventory should be directed to Ms. Dawn DiGiorgio, Administrative Operations, Office of the Managing Director, at (202) 418-0314 or Dawn.DiGiorgio@fcc.gov.

SUPPLEMENTARY INFORMATION: The information is organized by function to show how contracted resources are distributed throughout the agency. The inventory has been developed in accordance with guidance issued on November 5, 2010 and December 19, 2011 by the Office of Management and Budget's Office of Federal Procurement Policy (OFPP). OFPP's guidance is available at: http://www.whitehouse.gov/omb/procurement-service-contract-inventories.

The Federal Communications Commission has posted (1) Its FY 2012 inventory and (2) a summary of the FY 2012 inventory, as well as, (3) the planned analysis of its selected special interest function from the FY 2012 Service contract inventory, and (4) the analysis of the FY 2011 Service Contract inventory, on the Federal Communications Commission's Web site at the following link http://www.fcc.gov/encyclopedia/service-contract-inventory.

Federal Communications Commission.
Marlene H. Dortch,
Secretary.

[FR Doc. 2013-04697 Filed 2-27-13; 8:45 am]

BILLING CODE 6712-01-P